DEPARTMENT OF COMMERCE

Bureau of Industry and Security

Action Affecting Export Privileges; Ihsan Elashyi, also known as Ihsan Elashi and Sammy Elashyi, Tetrabal Corporation, Inc., Maysoon Al Kayali, Mynet.Net Corp, and Al Kayali Corporation

Correction

In notice document 03-16250 beginning on page 38290 in the issue of Friday, June 27, 2003, make the following correction:

On page 38290, in the first column, the subject heading is corrected to read as set forth as above.

[FR Doc. C3-16250 Filed 7-3-03; 8:45 am]

BILLING CODE 1505-01-D